DEPARTMENT OF TRANSPORTATION

Federal Aviation Administration

Agency Information Collection Activities: Requests for Comments; Clearance of Renewed Approval of Information Collection: Certification of Airmen for the Operation of Light-Sport Aircraft

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on June 10, 2010, vol. 75, no. 111, pages 32982-32983. This rule generated a need for new designated pilot examiners and designated airworthiness representatives to support the certification of new aircraft, pilots, flight instructors, and ground instructors.

DATES: Written comments should be submitted by September 27, 2010.

FOR FURTHER INFORMATION CONTACT: Carla Scott on (202) 267-9895, or by e-mail at: Carla.Scott@faa.gov.

SUPPLEMENTARY INFORMATION: OMB Control Number: 2120-0690.

Title: Certification of Airmen for the Operation of Light-Sport Aircraft.

Form Numbers: FAA Forms 8710-11, 8610-2, 337, 8110-14, 8110-28.

Type of Review: Renewal of an information collection.

Background: The “Certification of Aircraft and Airmen for the Operation of Light-Sport Aircraft” Final Rule was published in the Federal Register on July 27, 2004, vol. 69, no. 143, pages 44771-44820. The rule generated a need for new designated pilot examiners and designated airworthiness representatives to support the certification of new aircraft, pilots, flight instructors, and ground instructors.

Respondents: Approximately 57,214 pilots and maintenance personnel.

Frequency: Information is collected on occasion.

Estimated Average Burden per Response: 3 hours.

Estimated Total Annual Burden: 72,582 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202)395-6974, or mailed to the Office of Information and Regulatory Affairs, Office of Management and Budget, Docket Library, Room 10102, 725 17th Street, NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on August 23, 2010.
Carla Scott,
FAA Information Collection Clearance Officer, IT Enterprises Business Services Division, AES-200.

[FR Doc. 2010-21452 Filed 8-26-10; 8:45 am]

BILLING CODE 4910-13-P